DEPARTMENT OF ENERGY

Federal Energy Regulatory Commission

[Docket No. IC23-2-000]

Commission Information Collection Activities (FERC-923); Comment Request; Extension

AGENCY: Federal Energy Regulatory Commission.

ACTION: Notice of information collection and request for comments.

SUMMARY: In compliance with the requirements of the Paperwork Reduction Act of 1995, the Federal Energy Regulatory Commission (Commission or FERC) is soliciting public comment on the requirements and burden of the information collection FERC-923 (Communication of Operational Information between Natural Gas Pipelines and Electric Transmission Operators), described below, which will be submitted to the Office of Management and Budget (OMB) for review. The Commission published a 60-day notice on October 27, 2022 in the Federal Register and received no comments.

DATES: Comments on the collection of information are due February 9, 2023.

ADDRESSES: Send written comments on FERC-923 (identified by Docket No. IC23-2-000) to the Office of Management and Budget (OMB) through www.reginfo.gov/public/do/PRAMain, Attention: Federal Energy Regulatory Commission Desk Officer. Please identify the OMB Control Number 1902-0265 (Mandatory Reliability Standard: Transmission Vegetation Management) in the subject line. Your comments should be sent within 30 days of publication of this notice in the Federal Register.

Please submit copies of your comments (identified by Docket No. IC23-2-000 and FERC-923) to the Commission as noted below. Electronic filing through https://www.ferc.gov is preferred.

• Electronic Filing: Documents must be filed in acceptable native applications and print-to-PDF, but not in scanned or picture format.

• For those unable to file electronically, comments may be filed by USPS mail or by hand (including courier) delivery:

Mail via U.S. Postal Service only, addressed to: Federal Energy Regulatory Commission, Secretary of the Commission, 888 First Street NE, Washington, DC 20426.

Hand (including courier) delivery to: Federal Energy Regulatory Commission, 12225 Wilkins Avenue, Rockville, MD 20852.

Please reference the specific collection number(s) (FERC-923) and/or title(s) (Communication of Operational Information between Natural Gas Pipelines and Electric Transmission Operators) in your comments.

Instructions: OMB submissions must be formatted and filed in accordance with submission guidelines at: www.reginfo.gov/public/do/PRAMain. Using the search function under the “Currently Under Review field,” select “Federal Energy Regulatory Commission,” click “submit,” and select “comment” to the right of the subject collection. FERC submissions must be formatted and filed in accordance with submission guidelines at: https://www.ferc.gov. For user assistance, contact FERC Online Support by email at ferconlinesupport@ferc.gov, or by phone at (866) 208-3676 (toll-free).

Docket: Users interested in receiving automatic notification of activity in this docket or in viewing/downloading comments and issuances in this docket may do so at https://www.ferc.gov.

FOR FURTHER INFORMATION CONTACT: Ellen Brown may be reached by email at DataClearance@FERC.gov and telephone at (202) 502-8663.

SUPPLEMENTARY INFORMATION:

Title: FERC-923, Communication of Operational Information between Natural Gas Pipelines and Electric Transmission Operators.

OMB Control No.: 1902-0265.

Type of Request: Three-year extension of the information collection requirements described below with no changes to the current reporting requirements.

Abstract: In 2013, the Commission revised its regulations to provide explicit authority to interstate natural gas pipelines and public utilities that own, operate, or control facilities used for the transmission of electric energy in interstate commerce to voluntarily share non-public, operational information with each other for the purpose of promoting reliable service and operational planning on either the pipeline's or public utility's system. This helped ensure the reliability of natural gas pipeline and public utility transmission services by permitting transmission operators to share with each other the information that they deem necessary to promote the reliability and integrity of their systems. FERC removed actual or perceived prohibitions to the information sharing and communications between industry entities. The information shared is not submitted to FERC. Rather, the non-public information is shared voluntarily between industry entities. FERC does not prescribe the content, medium, format, or frequency for the information sharing and communications. Those decisions are made by the industry entities, depending on their needs and the situation.

Type of Respondent: Natural gas pipelines and public utilities.

Estimate of Annual Burden: ¹ The Commission estimates the annual public reporting burden and cost ² for FERC-923 as:

¹ Burden is defined as the total time, effort, or financial resources expended by persons to generate, maintain, retain, or disclose or provide information to or for a federal agency. See 5 CFR 1320 for additional information on the definition of information collection burden.

² Commission staff estimates that the industry's skill set (wages and benefits) for FERC-923 is comparable to the Commission's skill set. The FERC 2022 average salary plus benefits for one FERC full-time equivalent (FTE) is $188,992 year (or $91 per hour [rounded]).

FERC-923—Communication of Operational Information Between Natural Gas Pipelines and Electric Transmission Operators
| Number of respondents | Annual number of responses per respondent | Total number of responses | Average burden hrs. & cost ($) per response | Total annual burden hrs. & total annual cost ($) | Cost per respondent ($)
| (1) | (2) | (1) * (2) = (3) | (4) | (3) * (4) = (5) | (5) ÷ (1)
Public Utility Transmission Operator, communications | ³ 155 | 12 | 1,860 | 0.5 hrs.; $45.50 | 930 hrs.; $84,630 | 546
Interstate Natural Gas Pipelines, communications | ⁴ 191 | 12 | 2,292 | 0.5 hrs.; $45.50 | 1,146 hrs.; $104,286 | 546
Total |  |  | 4,152 |  | 2,076 hrs.; $188,916 |

Comments: Comments are invited on: (1) whether the collection of information is necessary for the proper performance of the functions of the Commission, including whether the information will have practical utility; (2) the accuracy of the agency's estimate of the burden and cost of the collection of information, including the validity of the methodology and assumptions used; (3) ways to enhance the quality, utility and clarity of the information collection; and (4) ways to minimize the burden of the collection of information on those who are to respond, including the use of automated collection techniques or other forms of information technology.

³ The estimate for the number of respondents is based on the North American Electric Reliability Corporation (NERC) Compliance Registry as of October 12, 2022, minus the Transmission Operators within ERCOT.

⁴ The estimate is based on the number of respondents to the 2021 FERC Forms 2 and 2A (Major and Non-major Natural Gas Pipeline Annual Reports).

Dated: January 4, 2023.
Kimberly D. Bose,
Secretary.

[FR Doc. 2023-00265 Filed 1-9-23; 8:45 am]

BILLING CODE 6717-01-P